DEPARTMENT OF THE INTERIOR

Bureau of Land Management

[CA-660-00-1220-HA]

Restrictions on Use of Public Lands and Facilities

AGENCY: Bureau of Land Management, Department of the Interior, Palm Springs-South Coast Field Office, Desert District, California.

ACTION: Notice—Temporary closure of public lands and facilities to dogs.

SUMMARY: In compliance with Title 43 Code of Federal Regulations (CFR), Subpart 8364.1(c), notice is hereby given that the Bureau of Land Management (BLM) prohibits persons bringing dogs onto certain public lands within the Santa Rosa Mountains National Scenic Area (SRMNSA), Riverside County, whether leashed or free-roaming, except when said dogs remain inside a motor vehicle. The public lands hereby closed to dogs include all such lands within Section 36, Township 4 South, Range 4 East, San Bernardino Meridian (SBM) and Section 36, Township 5 South, Range 4 East, SBM, and public lands within the SRMNSA that lie east and southeast of, but not including, Township 5 South, Range 4 East, SBM. Public lands excepted from the closure are all such lands within NW¼ Section 24, Township 6 South, Range 6 East, SBM, and public lands within E½ Section 5, Township 5 South, Range 5 East, SBM that lie north of Dunn Road and below an elevation of 800 feet above sea level. This closure shall be in effect year-round from February 1, 2000, until completion of a comprehensive trails management plan which addresses all aspects of trail and trailhead use in the Santa Rosa Mountains National Scenic Area, including any restrictions pertaining to dogs. Persons requiring accompaniment by a seeing-eye dog and those using dogs to facilitate search and rescue or law enforcement operations are exempt from this order.

SUPPLEMENTARY INFORMATION: On March 18, 1998, the U.S. Fish and Wildlife Service declared through publication of a final rule (63 FR 13134) that the distinct vertebrate population segment of bighorn sheep occupying the Peninsular Ranges of southern California was endangered pursuant to the Endangered Species Act of 1973, as amended. The current population of bighorn sheep in the United States' Peninsular Ranges approximates 335 animals distributed in eight known ewe groups (subpopulations) from the San Jacinto Mountains south to the Mexican border.

The Peninsular bighorn sheep is restricted to the east facing, lower elevation slopes (below 1,400 meters) of the Peninsular Ranges in the Sonoran desert life zone. Bighorn sheep are wide-ranging animals that require a variety of habitat characteristics that relate to topography, visibility, water availability, and forage quality and quantity. Steep topography is required for lambing and rearing habitat and escape terrain from predators. Open terrain with good visibility is critical because bighorn primarily rely on their sense of sight to detect predators. In their hot, arid habitat, water availability in some form is critical, especially during the summer. A wide range of forage resources and habitat types are needed to meet annual and drought-related variations in forage availability. Limiting factors apparently vary with each ewe group but are not well understood in all cases. The range of factors appears to include predation, urban-related sources of mortality, low rates of lamb recruitment, disease, habitat loss, and human-related disturbance.

A review of pertinent literature reveals that various prolonged disturbances to bighorn sheep may result in abandonment of lambing areas. Further, the stresses induced by dogs as exhibited by increases in bighorn sheep heart rates generally exceed the levels of stress caused by other factors. Whereas there is a recognized need to act swiftly to minimize the potential for abandonment of lambing areas by bighorn sheep during the lambing season, which occurs between January 1 and June 30, a temporary closure to dogs pending completion of a comprehensive trails management plan is appropriate. A year-round rather than a seasonal closure is instituted to avert associations by bighorn sheep of this area as occupied by dogs. Such closure reduces the potential for abandonment.

The comprehensive trails management plan is an element of the Coachella Valley Multiple Species Habitat Conservation Plan (CVMSHCP). The CVMSHCP is currently in development. Those desiring to participate in the planning process should contact the individual cited below.

Any person who fails to comply with this order may be subject to the penalties provided in 43 CFR 8360.0-7.

FOR ADDITIONAL INFORMATION CONTACT:

Jim Foote, BLM, Palm Springs-South Coast Field Office, P.O. Box 1260, North Palm Springs, CA 92258, telephone 760-251-4836.

Dated: January 12, 2000.
James G. Kenna,
Field Manager.

[FR Doc. 00-1447 Filed 1-20-00; 8:45 am]

BILLING CODE 4310-40-P